SMALL BUSINESS ADMINISTRATION

Reporting and Recordkeeping Requirements under OMB Review

AGENCY: Small Business Administration.

ACTION: 30-day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before June 27, 2024.

ADDRESSES: Written comments and recommendations for this information collection request should be sent within 30 days of publication of this notice to www.reginfo.gov/public/do/ PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain

SUPPLEMENTARY INFORMATION: SBA Form 1149, Lenders Transcript of Account is completed by Lenders when requesting SBA to purchase the guaranty portion of a loan. At that time, Lenders are required to supply the Agency with a certified transcript of the loan account. SBA Form 1149 is a uniform and convenient means for lenders to report and certify loan accounts to purchase by SBA. The Agency uses the information to determine date of loan default and whether Lender disbursed and serviced the loan according to Loan Guaranty agreement.

SBA has determined that the current information does not adequately meet its needs at the time of guaranty purchase review since the form does not collect enough details about the type of loan payments. Accordingly, SBA changed the column titled “DEFERMENT” to “TYPE OF PAYMENT.”

SBA also plans to revise and clarify the instructions for the Form 1149 to ensure the lenders will be aware of the information to be reported. Lastly, the Form 1149 may undergo additional formatting changes to make it easier to address mandatory Federal government 508 accessibility compliance.

This non-substantive change will likely not have a significant impact on the burden. SBA is requesting a 3-year renewal.

Solicitation of Public Comments:

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0132.

Title: Lenders Transcript of Account.

Description of Respondents: SBA Lenders.

SBA Form Number: SBA Form 1149.

Estimated Number of Respondents: 15,000.

Estimated Annual Responses: 15,000.

Estimated Annual Hour Burden: 30,000.

Curtis Rich,
Agency Clearance Officer.

[FR Doc. 2024-11642 Filed 5-24-24; 8:45 am]

BILLING CODE 8026-09-P